FEDERAL EMERGENCY MANAGEMENT AGENCY

44 CFR Part 65

[Docket No. FEMA-D-7531]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Administrator reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act. This rule is categorically excluded from the requirements of 44 CFR part 10, Environmental Consideration. No environmental impact assessment has been prepared.

Regulatory Flexibility Act. The Administrator, Federal Insurance and Mitigation Administration, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama: Jefferson | City of Hoover | October 8, 2002, October 15, 2002, The Birmingham News | The Honorable Barbara McCollum, Mayor of the City of Hoover, 100 Municipal Drive, Hoover, Alabama 32516 | Oct. 1, 2002 | 010123 B
Connecticut:
Middlesex | City of Middletown | September 10, 2002, September 17, 2002, The Middletown Press | The Honorable Domenique S. Thornton, Mayor of the City of Middletown, 245 deKoven Drive, P.O. Box 1300, Middletown, Connecticut 06457 | Dec. 17, 2002 | 090068 C
New Haven | City of Milford | October 9, 2002, October 16, 2002, New Haven Register | The Honorable James L. Richetelli, Mayor of the City of Milford, City Hall, 110 River Street, Milford, Connecticut 06460 | Jan. 15, 2003 | 090082 F
Florida:
Charlotte | Unincorporated Areas | September 19, 2002, September 26, 2002, Herald Tribune (Charlotte County Edition) and Sun Herald | Ms. Pamela Brangaccio, Charlotte County Interim Administrator, 18500 Murdock Circle, Port Charlotte, Florida 33948 | Sept. 12, 2002 | 120061 D
Dade | Unincorporated Areas | September 13, 2002, September 20, 2002, The Miami Herald | Mr. Steve Shriver, Dade County Manager, 111 N.W. First Street, Suite 910, Miami, Florida 33128 | Sept. 6, 2002 | 120635 J
Polk | City of Lakeland | October 1, 2002, October 8, 2002, The Ledger | Mr. Roger D. Haar, City Manager for the City of Lakeland, Lakeland City Hall, 228 South Massachusetts Avenue, Lakeland, Florida 33801-5086 | Sept. 24, 2002 | 120267 F
Dade | City of Miami | September 10, 2002, September 17, 2002, The Miami Herald | The Honorable Manuel A. Diaz, Mayor of the City of Miami, 3500 Pan American Drive, Miami, Florida 33133 | Sept. 3, 2002 | 120650 J
Orange | City of Ocoee | September 25, 2002, October 2, 2002, The Orlando Sentinel | The Honorable S. Scott Vandergift, Mayor of the City of Ocoee, City Hall, 150 North Lakeshore Drive, Ocoee, Florida 34761 | Sept. 18, 2002 | 120185 E
Orange | Unincorporated Areas | September 25, 2002, October 2, 2002, The Orlando Sentinel | M. Krishnamurthy, P.E., Ph.D., Orange County Stormwater, Management Manager, 4200 South John Young Parkway, Orlando, Florida 32839 | Sept. 18, 2002 | 120179 E
Orange | Unincorporated Areas | September 27, 2002, October 4, 2002, The Orlando Sentinel | M. Krishnamurthy, P.E., Ph.D., Orange County Stormwater, Management Manager, 4200 South John Young Parkway, Orlando, Florida 32839 | Sept. 20, 2002 | 120179 E
Georgia:
Richmond | City of Augusta | September 5, 2002, September 12, 2002, The Augusta Chronicle | The Honorable Bob Young, Mayor of the City of Augusta, City-County Municipal Building, 530 Greene Street, Augusta, Georgia 30911 | Dec. 12, 2002 | 130158 E
Catoosa | City of Fort Oglethorpe | September 4, 2002, September 11, 2002, Chattanooga Free Press | The Honorable Judson L. Burkhart, Mayor of the City of Fort Oglethorpe, P.O. Box 5509, 500 City Hall Drive, Fort Oglethorpe, Georgia 30742 | Dec. 11, 2002 | 130248 B
New York: Schenectady County | Town of Rotterdam | September 27, 2002, October 4, 2002, The Daily Gazette | Mr. John Paolino, Supervisor of the Town of Rotterdam, 1100 Sunrise Boulevard, Rotterdam, New York 12306 | Mar. 17, 2003 | 360740 B
North Carolina: Buncombe | City of Ashville | October 9, 2002, October 16, 2002, The Asheville Citizen-Times | The Honorable Charlie Worley, Mayor of the City of Asheville, P.O. Box 7148, Asheville, North Carolina 28802 | Jan. 15, 2003 | 370032 C
Pennsylvania:
Cambria | City of Johnstown | September 30, 2002, October 7, 2002, Johnstown Tribune | Mr. Silka, City of Johnstown Manager, 401 Main Street, Johnstown, Pennsylvania 15901 | Sept. 16, 2002 | 420231 C
Allegheny | Township of Moon | October 9, 2002, October 16, 2002, Moon Record Star | Mr. Gregory S. Smith, Manager of Moon Township, 1000 Beaver Grade Road, Moon, Pennsylvania 15108 | Jan. 14, 2003 | 421082 E
Allegheny | Township of North Fayette | October 9, 2002, October 16, 2002, Moon Record Star | Mr. Robert T. Grimm, Manager of the Township of North Fayette, 400 North Branch Road, Oakdale, Pennsylvania 15071 | Jan. 14, 2003 | 421085 E
Allegheny | Township of Robinson | October 9, 2002, October 16, 2002, Suburban Gazette | Mr. William L. Blumling, Chairman of the Board of Commissioners, Township of Robinson, 1000 Church Hill Road, Pittsburgh, Pennsylvania 15205 | Jan. 14, 2003 | 421097 E
Tennessee:
Shelby | City of Memphis | October 15, 2002, October 22, 2002, The Commercial Appeal | The Honorable Willie W. Herenton, PhD, Mayor of the City of Memphis, City Hall, 125 North Main Street, Suite 700, Memphis, Tennessee 38103 | Jan. 22, 2003 | 470177 E
Williamson | Unincorporated Areas | October 7, 2002, October 14, 2002, The Review Appeal | Mr. Rogers Anderson, Williamson County Executive, 1320 West Main Street, Suite 100, Franklin, Tennessee 37064 | Oct. 1, 2002 | 470204 C
Virginia:
Independent City | City of Harrisonburg | October 11, 2002, October 18, 2002, Daily News-Record | The Honorable Joseph G. Fitzgerald, Mayor of the City of Harrisonburg, City Manager's, Office 345 South Main Street, Harrisonburg, Virginia 22801 | Oct. 4, 2002 | 510076 B
Independent City | City of Roanoke | September 20, 2002, September 27, 2002, Roanoke Times | The Honorable Ralph K. Smith, Mayor of the City of Roanoke, 215 Church Avenue, S.W., Room 452, Roanoke, Virginia 24011 | Sept. 12, 2002 | 510130 D
Independent City | City of Winchester | September 23, 2002, September 30, 2002, Winchester Star | Mr. Edwin C. Daley, City of Winchester Manager, Rouss City Hall, 15 North Cameron Street, Winchester, Virginia 22601 | Dec. 30, 2002 | 510173 B
West Virginia: Berkeley | Unincorporated Areas | September 20, 2002, September 27, 2002, Martinsburg Journal | Mr. Howard Strauss, President of Berkeley County, Board of Commissioners, 126 West King Street, Martinsburg, West Virginia 25401 | Sept. 4, 2002 | 540282 B

(Catalog of Federal Domestic Assistance No. 83.100, “Flood Insurance.”)
Dated: October 30, 2002.
Anthony S. Lowe,
Administrator, Federal Insurance and Mitigation Administration.

[FR Doc. 02-27962 Filed 11-1-02; 8:45 am]

BILLING CODE 6718-04-P